DEPARTMENT OF COMMERCE

National Oceanic and Atmospheric Administration

RIN 0648-XF052

Western Pacific Fishery Management Council; Public Meeting

AGENCY: National Marine Fisheries Service (NMFS), National Oceanic and Atmospheric Administration (NOAA), Commerce.

ACTION: Notice of a public meeting and scoping sessions.

SUMMARY: The Western Pacific Fishery Management Council (Council) will hold public meetings and scoping sessions to discuss fishery management regulations for the Monument Expanded Area in the Northwestern Hawaiian Islands.

DATES: The Council will hold meetings in Hawaii from Tuesday, December 6 through Saturday, December 17, 2016. For specific dates, times and agendas, see SUPPLEMENTARY INFORMATION.

ADDRESSES: The meetings will be held in Hilo, Kona, Kahului, Maui, Lihue, Kauai, Honolulu, Oahu, Kaunakakai, Molokai, HI. See SUPPLEMENTARY INFORMATION for specific locations of the meetings.

FOR FURTHER INFORMATION CONTACT: Kitty M. Simonds, Executive Director, Western Pacific Fishery Management Council; telephone: (808) 522-8220.

SUPPLEMENTARY INFORMATION: The Council will hold meetings in Hilo, HI, on Tuesday, December 6, 2016, between 6 p.m. and 9 p.m.; in Kona, HI, on Wednesday, December 7, 2016, between 6 p.m. and 9 p.m.; in Kahului, Maui, HI, on Thursday, December 8, 2016, between 6 p.m. and 9 p.m.; in Lihue, Kauai, HI on Tuesday, December 13, 2016, between 6 p.m. and 9 p.m.; in Honolulu, Oahu, HI, on Thursday, December 15, 2016, between 6 p.m. and 9 p.m.; and in Kaunakakai, Molokai, HI, on Saturday, December 17, 2016, between 1 p.m. and 4 p.m. All times listed are local island times.

The Hilo meeting will be held at the Hilo Intermediate School Cafeteria, 587 Waianuenue Ave, Hilo, HI 96720. The Kona meeting will be held at the West Hawaii Civic Center, Building G, 74-5044 Ane Keohokalole Hwy, Kailua-Kona, HI 96740. The Maui meeting will be held at the Courtyard Maui Kahului Airport, 532 Keolani Pl, Kahului, HI 96732. The Kauai meeting will be held at the Chiefess Kamakahelei Middle School, 4431 Nuhou St, Lihue, HI 96766. The Oahu meeting will be held at the Ala Moana Hotel, 410 Atkinson Dr, Honolulu, HI 96814. The Molokai meeting will be held at Kaunakakai Elementary School Cafeteria, 30 Ailoa St, Kaunakakai, HI 96761.

Public scoping and comment periods will be provided in the agenda. The order in which agenda items are addressed may change. The meetings will run as late as necessary to complete scheduled business.

Schedule and Agenda for All Meetings

1. Visit Informational Booths

2. Informational Briefing on Presidential Proclamation, Council Role in Rule-making Process, Data Discovery

3. Public Comment/Scoping Session

4. Adjourn

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: November 16, 2016.
Tracey L. Thompson,
Acting Deputy Director, Office of Sustainable Fisheries, National Marine Fisheries Service.

[FR Doc. 2016-27973 Filed 11-18-16; 8:45 am]

BILLING CODE 3510-22-P